DEPARTMENT OF STATE

[Public Notice: 11505]

Ninth Summit of the Americas Leaders Meeting

We are delighted to inform that U.S. cities are invited to present proposals to host the concluding week of high-level events and meetings of the Ninth Summit of the Americas (Summit) process to occur during summer 2022. Over the course of approximately two to five days, the United States Government will organize official and informal events, bilateral meetings, and media events that Chiefs of State and Heads of Government and senior officials of participating governments from the Western Hemisphere will attend.

As many as 10,000 participants, including support staff, security, media, and businesspersons may attend. Global media attention will focus on the leaders' meeting at the Summit. The President of the United States and up to 50 Chiefs of State, Heads of Government, and high-level participants from the governments of the Americas, regional and global international organizations, and other special guests are expected to attend. Each Summit delegation will likely be comprised of Cabinet Ministers, Senior Advisors, Security Officers, and members of the Foreign Media. The Summit's associated high-level stakeholder forums and events, which may include but are not limited to the CEO Summit of the Americas, Civil Society Forum, Young Americas Forum, and commercial exhibitions, will attract prominent business executives, local government and civil society leaders, and youth entrepreneurs from around the world. With this many high-profile visitors, security will be a major consideration for the selection of the city and conference venues. The following meetings could be held during the Summit week: (1) Concluding Summit Implementation Review Group (SIRG) National Summit Coordinators Plenipotentiaries Meeting—2-3 days, approximately 200 delegates; (2) SIRG Ministerial Meeting—1 day, approximately 300 delegates; (3) CEO Summit—3 days, approximately 1,000 to 5,000 attendees; (4) Civil Society Forum—2 days, approximately 1,000 to 1,200 attendees; (5) Young Americas Forum—2 days, approximately 500 to 700 attendees; (6) Summit inaugural ceremony and dinner—half day, restricted attendance 1,000 to 3,000 delegates at the ceremony, and approximately two groups of 100 to 300 attendees each at separate receptions/dinners; (7) Summit Leaders Meeting—1 to 2 days, restricted in-room attendance up to 300 delegates; approximately 10,000 delegates in other venues. Additional stakeholder forums, events and meetings may take place throughout the week as well. The minimum requirements are as follows: An international airport with frequent and consistent connections to and from countries in the Western Hemisphere (further information about the Summit of the Americas can be found at the website for the Ninth Summit of the Americas: www.IXSummitAmericas.org, or the Summits of the Americas Secretariat's website: www.summit-americas.org); an identified Fixed Based Operator (FBO) for private aircraft arrivals/departures and adequate parking space for 30 private aircraft; approximately 20,000 hotel room nights of international standard including 100 suites for Heads of Government and cabinet-level Ministers; Conference facilities for multiple meetings; Political, business, and civic support; Local security capable of supporting delegates and VIPs.

Preparation of Proposals

Deadline is September 3, 2021. Proposals must be submitted by email as a single PDF from a verified state/territory or municipal government email address to IX-SummitAmericas@state.gov. Items supporting proposals, including additional attachments, videos, or professional video presentations of the city and/or convention space, should identify complete URLs in the PDF. Questions about the proposal and submission process can be directed to IX-SummitAmericas@state.gov. Questions will be responded to in a timely manner. All information in the proposal, including quoted prices, must be valid for 60 days after the due date. Proposals must have the following sections: (1) One-page executive summary of what the city offers. (2) General city description: (a) Letter of support from the mayor or city's senior elected official(s); (b) letter of support from the state governor; (c) letter of support from local civic and business groups; (d) a past performance statement which indicates the city's successful experience hosting large meetings and events; (e) description of the metropolitan area's ties to the Western Hemisphere; and (f) description and availability of venues that could be used for large events. (3) Hotel availabilities: (a) A list of three and four star hotels in proximity to the proposed primary venues including facility amenities such as high-speed wireless internet access, cell phone coverage for large groups, restaurants, and accommodations for VIPs; (4) Primary event venue facilities: (a) Catering, audio-visual, perimeter security, on-site maintenance, management, medical, cell phone coverage for large groups, and high speed internet access, including the relevant pricing schedule for internet provision within the primary event venue and a description of the agility of internet bandwidth infrastructure, including whether unencumbered connections are possible and including detail on any broadcast fiber connectivity between the primary venue and a major teleport; (b) dedicated entrance for Summit delegates, if any; (c) meeting rooms; (d) transportation between hotels and conference facilities; and (e) spreadsheet indicating costs and availabilities of primary event venues for timeframe indicated; within. Please address the following questions:

How will the city provide security for the delegates and VIPs including the U.S. President? Only the U.S. President and other Chiefs of State and Heads of Government will have United States Secret Service (USSS) protective details. Each will be eligible to receive a protective detail that include a vehicle package, the size of which is determined by threat level. The Secretary of State has 24/7 Diplomatic Security Service (DS) protection. Heads of Delegations who are not Chiefs of State or Heads of Government would NOT receive USSS protection, but, based on a threat assessment, might be eligible for DS protection. Local Police Departments (PD) normally provide route, motorcade, and intelligence support to the USSS. Local PDs historically have the lead responsibility for providing crowd control, demonstration control and riot response. If required, will the city block off streets around the conference venue and hotels for Heads of State and Government? The conference facility would have tight perimeter and access controls. Security arrangements for hotels are based on threat information relating to the Heads of State and Government and will be determined on a case-by-case basis by the USSS and Local PD. Not every hotel would necessarily have total perimeter controls. Conversely, a central hotel might meet criteria for closed streets and public access.

How will the city fund the extra security required for this conference? Cities that bid on such events must take into account and budget for the extensive costs of Security and Public Safety, as that responsibility lies solely with the host city. The USSS and DS do not reimburse local police for costs of supporting visiting foreign dignitaries. Some cities in the past have been able to obtain funding to offset security costs through Congress when requests for funding support have been initiated by their congressional representatives. This event would likely receive a Department of Homeland Security, Special Event Activity Report (SEAR) Level One. It could possibly receive designation as a National Security Special Event (NSSE), which may not be determined until approximately one year or less prior to the event. The SEAR and NSSE designations are made based on certain criteria by either the DHS Special Event Working Group or the NSSE Working Group (Interagency Security groups that use methodology to determine an event's rating.) Neither designation provides funding to local public safety agencies, but the ultimate SEAR level and, if applicable, NSSE designation, does outline the level of support that Federal agencies can provide.

What public safety infrastructure is available? Address the following: (1) Police: (a) Special operations capabilities; (b) VIP protection; (c) riot and crowd control response to incidents; (d) explosive detection and disposal; (e) traffic controls; (f) Intelligence Division; (g) mutual aid agreements/memorandum of understanding with surrounding jurisdictions/state police; (h) communication center and procedures; and (i) current emergency plan. (2) Fire/emergency medical service: (a) Chemical Biological Radiological and Nuclear detection/procedures; (b) first responders; (c) equipment/training and trained staff on hand. (3) Emergency Management: (a) Mass casualty; (b) terrorist attack; and (c) natural disaster. (4) Emergency Facilities: (a) Hospital/Medical Centers; (b) emergency backup communications; (c) emergency supplies; and (d) evacuation plans. (5) Public health: (a) measures used to mitigate the spread of viruses; (b) protocols for responding to outbreaks.

Kevin E. Bryant,
Deputy Director, Office of Directives Management, U.S. Department of State.

[FR Doc. 2021-17852 Filed 8-19-21; 8:45 am]

BILLING CODE 4710-29-P